DEPARTMENT OF THE INTERIOR

Fish and Wildlife Service

[FWS-R2-ES-2008-N0033]; [20124-1113-0000-F5]

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before April 16, 2008.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments.

FOR FURTHER INFORMATION CONTACT: Chief, Endangered Species Division, P.O. Box 1306, Room 4102, Albuquerque, New Mexico 87103, (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-7819476

Applicant: Grand Canyon National Park, Grand Canyon, Arizona.

Applicant requests an amendment to an existing permit for research and recovery purposes to conduct presence/absence and collections of Sentry milk-vetch (Astragalus cremnophylax var. cremnophylax).

Permit TE-173890

Applicant: K. Wilynn Zickler, Dripping Springs, Texas.

Applicant requests a new permit for research and recovery purposes to conduct presence/absence surveys of golden-cheeked warbler (Dendroica chrysoparia) and black-capped vireo (Vireo atricapilla) within Texas.

Permit TE-173891

Applicant: Black Swamp Bird Observatory, Oak Harbor, Ohio.

Applicant requests a new permit for research and recovery purposes to conduct presence/absence surveys of black-capped vireo (Vireo atricapilla) the within Oklahoma.

Permit TE-168282

Applicant: Normandeau Associates Inc., Stevenson, Washington.

Applicant requests a new permit for research and recovery purposes to conduct presence/absence surveys of the following species: razorback sucker (Xyrauchen texanus) and Bonytail (Gila eleganus).

Permit TE-053085

Applicant: Bureau of Reclamation, Boulder City, Nevada.

Applicant requests an amendment to a current permit for research and recovery purposes to conduct presence/absence surveys of Yuma clapper rail (Rallus lomgirostris yumanensis) within Arizona, Nevada and California.

Permit TE-174552

Applicant: Animas Biological Studies, LLC, Durango, Colorado.

Applicant requests a new permit for research and recovery purposes to conduct presence/absence surveys for southwestern willow flycatcher (Empidonax traillii extimus) and Mexican spotted owl (Strix occidentalis lucida) within New Mexico, Arizona, Utah and Colorado.

Permit TE-829996

Applicant: Houston Zoo, Houston, Texas.

Applicant requests an amendment to a previous permit to hold and maintain captive bred Wyoming toads (Bufo baxteri) within the Houston Zoo, until they are transferred to other authorized institutions.

Permit TE-170389

Applicant: Travis Cooper, San Juan Capistrano, California.

Applicant requests a new permit for research and recovery purposes to conduct presence/absence surveys for southwestern willow flycatcher (Empidonax traillii extimus) within Arizona.

Permit TE-175541

Applicant: A&M Engineering and Environmental Services, Tulsa, Oklahoma.

Applicant requests a new permit for research and recovery purposes to conduct presence/absence surveys for American burying beetle (Nicrophorus americanus) within Oklahoma, Kansas, Arkansas and Missouri.

Authority: 16 U.S.C. 1531 et seq.

Dated: February 21, 2008.
Christopher T. Jones,
Acting Regional Director, Southwest Region, Fish and Wildlife Service.

[FR Doc. E8-5265 Filed 3-14-08; 8:45 am]

BILLING CODE 4310-55-P